DEPARTMENT OF ENERGY

Federal Energy Regulatory Commission

[Docket No. CP08-434-000]

Kinder Morgan Louisiana Pipeline, LLC; Notice of Request Under Blanket Authorization

July 7, 2008.

Take notice that on July 1, 2008, Kinder Morgan Louisiana Pipeline, LLC (Kinder Morgan), 3250 Lacy Road, Suite 700, Downers Grove, Illinois 60515, filed in Docket No. CP08-434-000, an application pursuant to sections 157.205, 157.208, 157.211, and 157.212 of the Commission's Regulations under the Natural Gas Act (NGA) as amended, to construct and operate a bi-directional interconnection on Kinder Morgan's pipeline in Acadia Parish, Louisiana, in order to deliver revaporized natural gas to Pine Prairie Energy Center, LLC's (Pine Prairie's) storage facility and to subsequently receive natural gas from Pine Prairie, under Kinder Morgan's blanket certificate issued in Docket No. CP06-451-000,¹ all as more fully set forth in the application which is on file with the Commission and open to the public for inspection.

¹ 119 FERC ¶ 61,309 (2007).

Kinder Morgan states that it proposes to construct and operate a bi-directional interconnection and appurtenant facilities at approximate Mile Post 109 on Kinder Morgan's pipeline in Acadia Parish in order to deliver up to 600 MMcf/day of revaporized natural gas to Pine Prairie's storage facility and to subsequently receive natural gas from Pine Prairie. Kinder Morgan also states that the proposed interconnection would provide shippers on Kinder Morgan's pipeline system access to Pine Prairie's storage development. Kinder Morgan further states that the proposed interconnection facilities would cost approximately $3,200,000 to construct and would be placed in service during December 2008.

Any questions concerning this application may be directed to Norman Watson, Director, Business Development, Kinder Morgan Louisiana Pipeline LLC, 500 Dallas Street, Suite 1000, Houston, Texas 77002, telephone at (713) 369-9219, or Bruce Newsome, Vice President, 3250 Lacey Road, Suite 700, Downers Grove, Illinois 60515, telephone at (630) 725-3070.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-15878 Filed 7-11-08; 8:45 am]

BILLING CODE 6717-01-P